Title 3—

The President

Proclamation 9279 of May 11, 2015

National Women's Health Week, 2015

By the President of the United States of America

A Proclamation

The security of quality, affordable health care should not be a privilege—it should be a fundamental right for every person, regardless of their sex or gender. Today, the Affordable Care Act is helping to secure this right for women across our Nation. The law is saving money for women and their families, and it is saving lives—of our mothers, daughters, and sisters—and helping more women achieve their fullest potential. During National Women's Health Week, we reaffirm the belief that ensuring all women and girls have the opportunity to live full and healthy lives is vital to their success and to the prosperity of our Nation; we celebrate the difference the Affordable Care Act has made for countless women; and we recommit to building on its success because we know that when women succeed, America succeeds.

Over the past year, millions of women have gained the security of knowing their personal and professional goals will not be jeopardized just because they face a health challenge. Because of the Affordable Care Act, women can no longer be charged different premiums than men for the same coverage or be denied insurance based on pre-existing conditions, such as pregnancy or violence-related injuries. The law also requires most insurance plans to cover basic health services, including contraceptive, prenatal, and maternity care. And today, tens of millions of women are benefiting from expanded access to preventive care under the law—services which can lead to early detection of some of the many health challenges that disproportionately affect women. Because these preventive services—like screenings for breast cancer, domestic violence, and osteoporosis—are available without cost sharing, women are not forced to choose between health care necessities and other essential expenses.

The equality that all women deserve is inextricably linked to safeguarding access to preventive services and treatment and eliminating disparities in health outcomes. My Administration is committed to strengthening the Affordable Care Act, and we are striving to reach all those who have yet to enroll and gain access to the crucial services it provides. Every day, we are working to make women's health care more affordable, increase women's access to sexual and reproductive health services, and improve maternal and child health outcomes.

As we celebrate National Women's Health Week, we rededicate ourselves to advancing women's health and building a healthy future for all women and girls across our country. To learn more and to access additional information and resources, Americans can visit www.WomensHealth.gov and www.GirlsHealth.gov.

NOW, THEREFORE, I, BARACK OBAMA, President of the United States of America, by virtue of the authority vested in me by the Constitution and the laws of the United States, do hereby proclaim May 10 through May 16, 2015, as National Women's Health Week. I encourage all Americans to celebrate the progress we have made in protecting women's health and to promote awareness, prevention, and educational activities that improve the health of all women.

IN WITNESS WHEREOF, I have hereunto set my hand this eleventh day of May, in the year of our Lord two thousand fifteen, and of the Independence of the United States of America the two hundred and thirty-ninth.

[FR Doc. 2015-11890

Filed 5-13-15; 11:15 am]

Billing code 3295-F5